DEPARTMENT OF ENERGY

Federal Energy Regulatory Commission

Combined Notice of Filings #1

Take notice that the Commission received the following electric corporate filings:

Docket Numbers: EC12-95-000.

Applicants: ITC Midwest LLC.

Description: Application for Approval of Acquisition of Transmission Assets Pursuant to Section 203 of the Federal Power Act of ITC Midwest LLC.

Filed Date: 4/30/12.

Accession Number: 20120430-5696.

Comments Due: 5 p.m. ET 5/21/12.

Take notice that the Commission received the following electric rate filings:

Docket Numbers: ER10-1556-005.

Applicants: Longview Power.

Description: Notice of Change in Status of Longview Power, LLC.

Filed Date: 4/30/12.

Accession Number: 20120430-5705.

Comments Due: 5 p.m. ET 5/21/12.

Docket Numbers: ER10-3254-001.

Applicants: Cooperative Energy Incorporated (An Electric Membership Corporation).

Description: Cooperative Energy Inc. Second Amendment to Updated Market Power Analysis.

Filed Date: 4/27/12.

Accession Number: 20120427-5422.

Comments Due: 5 p.m. ET 5/18/12.

Docket Numbers: ER12-162-002; ER11-3876-004; ER11-2044-005; ER10-2611-003.

Applicants: MidAmerican Energy Company, Cordova Energy Company LLC, Saranac Power Partners, L.P., Bishop Hill Energy II LLC.

Description: Bishop Hill Energy II LLC, Cordova Energy Company LLC, MidAmerican Energy Company, and Saranac Power Partners, L.P. (Applicants) notice of change in status filing.

Filed Date: 4/30/12.

Accession Number: 20120430-5706.

Comments Due: 5 p.m. ET 5/21/12.

Docket Numbers: ER12-1666-000.

Applicants: Longview Power, LLC.

Description: Category 2 and MISO Ancillary Services Filing to be effective 3/29/2012.

Filed Date: 4/30/12.

Accession Number: 20120430-5476.

Comments Due: 5 p.m. ET 5/21/12.

Docket Numbers: ER12-1667-000.

Applicants: Midwest Independent Transmission System Operator, Inc.

Description: 4-30-12 Attachment O to be effective 5/1/2012.

Filed Date: 4/30/12.

Accession Number: 20120430-5486.

Comments Due: 5 p.m. ET 5/21/12.

Docket Numbers: ER12-1668-000.

Applicants: Entergy Arkansas, Inc.

Description: MJMEUC PtP SA #543 to be effective 4/1/2012.

Filed Date: 4/30/12

Accession Number: 20120430-5495.

Comments Due: 5 p.m. ET 5/21/12.

Docket Numbers: ER12-1669-000.

Applicants: Westar Energy, Inc.

Description: KEPCo, Revision to Attachment F to be effective 7/1/2011.

Filed Date: 4/30/12.

Accession Number: 20120430-5500.

Comments Due: 5 p.m. ET 5/21/12.

Docket Numbers: ER12-1670-000.

Applicants: Delaware City Refining Company LLC.

Description: Notice of Change in Status to be effective 6/29/2012.

Filed Date: 5/1/12.

Accession Number: 20120501-5001.

Comments Due: 5 p.m. ET 5/22/12.

Docket Numbers: ER12-1671-000.

Applicants: Southwest Power Pool, Inc.

Description: 2416 Midwest Energy/ITC Interconnection Agreement to be effective 6/1/2012.

Filed Date: 5/1/12.

Accession Number: 20120501-5003.

Comments Due: 5 p.m. ET 5/22/12.

Docket Numbers: ER12-1672-000.

Applicants: PBF Power Marketing LLC.

Description: Change of Status to be effective 6/29/2012.

Filed Date: 5/1/12.

Accession Number: 20120501-5008.

Comments Due: 5 p.m. ET 5/22/12.

Docket Numbers: ER12-1673-000.

Applicants: Westar Energy, Inc.

Description: Kansas Power Pool Confirmation Letter Re-dispatch Services to be effective 6/1/2012.

Filed Date: 5/1/12.

Accession Number: 20120501-5010.

Comments Due: 5 p.m. ET 5/22/12.

Docket Numbers: ER12-1674-000.

Applicants: Southwest Power Pool, Inc.

Description: Southwest Power Pool, Inc.'s Notice of Cancellation of Generator Interconnection Agreement.

Filed Date: 4/30/12.

Accession Number: 20120430-5656.

Comments Due: 5 p.m. ET 5/21/12.

Docket Numbers: ER12-1675-000.

Applicants: Flanders Energy LLC.

Description: Baseline New to be effective 5/1/2012.

Filed Date: 5/1/12.

Accession Number: 20120501-5083.

Comments Due: 5 p.m. ET 5/22/12.

Docket Numbers: ER12-1676-000.

Applicants: PacifiCorp.

Description: Notice of Termination of PacifiCorp Rate Schedule No. 246.

Filed Date: 4/30/12.

Accession Number: 20120430-5676.

Comments Due: 5 p.m. ET 5/21/12.

Docket Numbers: ER12-1677-000.

Applicants: Southwest Power Pool, Inc.

Description: 2198R1 Kansas Power Pool NITSA NOA to be effective 4/1/2012.

Filed Date: 5/1/12.

Accession Number: 20120501-5114.

Comments Due: 5 p.m. ET 5/22/12.

Docket Numbers: ER12-1678-000.

Applicants: ISO New England Inc.

Description: Forward Capacity Auction Results Filing of ISO New England Inc.

Filed Date: 4/30/12.

Accession Number: 20120430-5697.

Comments Due: 5 p.m. ET 6/14/12.

Docket Numbers: ER12-1679-000.

Applicants: Northern States Power Company, a Wisconsin corporation.

Description: 2012_5_1_NSPW BNGR Const Intercon Fac Agrmt-115 to be effective 6/29/2012.

Filed Date: 5/1/12.

Accession Number: 20120501-5127.

Comments Due: 5 p.m. ET 5/22/12.

Docket Numbers: ER12-1680-000.

Applicants: Minonk Wind, LLC.

Description: Market-Based Rate Tariff to be effective 6/30/2012.

Filed Date: 5/1/12.

Accession Number: 20120501-5136.

Comments Due: 5 p.m. ET 5/22/12.

Docket Numbers: ER12-1681-000.

Applicants: Clean Currents LLC.

Description: Clean Currents LLC Notice of Cancellation of MBR Authority to be effective 5/2/2012.

Filed Date: 5/1/12.

Accession Number: 20120501-5210.

Comments Due: 5 p.m. ET 5/22/12.

Docket Numbers: ER12-1682-000.

Applicants: Public Service Company of Colorado.

Description: 2012-5-1_SPS Line Losses Filing to be effective 7/1/2012.

Filed Date: 5/1/12.

Accession Number: 20120501-5224.

Comments Due: 5 p.m. ET 5/22/12.

Docket Numbers: ER12-1683-000.

Applicants: Pacific Gas and Electric Company.

Description: Amendment to BART Network Integration Transmission Service Agreement (Lodi) to be effective 7/1/2012.

Filed Date: 5/1/12.

Accession Number: 20120501-5237.

Comments Due: 5 p.m. ET 5/22/12.

Take notice that the Commission received the following electric securities filings:

Docket Numbers: ES12-39-000.

Applicants: System Energy Resources, Inc.

Description: Application of System Energy Resources, Inc., for Section 204 Authorization.

Filed Date: 4/30/12.

Accession Number: 20120430-5707.

Comments Due: 5 p.m. ET 5/21/12.

Docket Numbers: ES12-40-000.

Applicants: Michigan Electric Transmission Company, LLC.

Description: Application under FPA Section 204 of Michigan Electric Transmission Company, LLC.

Filed Date: 4/30/12.

Accession Number: 20120430-5714.

Comments Due: 5 p.m. ET 5/21/12.

Take notice that the Commission received the following land acquisition reports:

Docket Numbers: LA12-1-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Tenaska Washington Partners, L.P., Texas Electric Marketing, LLC, TPF Generation Holdings, LLC, and Wolf Hills Energy, LLC.

Description: Quarterly Land Acquisition Report of Alabama Electric Marketing, LLC, Bib Sandy Peaker Plant, LLC, California Electric Marketing, LLC, Crete Energy Venture, LLC, et al.

Filed Date: 4/30/12.

Accession Number: 20120430-5584.

Comments Due: 5 p.m. ET 5/21/12.

Docket Numbers: LA12-1-000.

Applicants: APDC, Inc., Atlantic Power Energy Services (US) LLC, Auburndale Power Partners, L.P., Cadillac Renewable Energy, LLC, Chambers Cogeneration, Limited Partnership, Delta Person Limited Partnership, Frederickson Power L.P. Lake Cogen, Ltd., Manchief Power Company LLC, Morris Cogeneration, LLC, Orlando CoGen Limited, L.P., Pasco Cogen, Ltd., SelkirkCogen Partners, L.P. Burley Butte Wind Park, LLC, Camp Reed Wind Park, LLC, Golden Valley Wind Park, LLC, Milner Dam Wind Park, LLC, Oregon Trail Wind Park, LLC, Payne's Ferry Wind Park, LLC, Pilgrim Stage Station Wind Park, LLC, Salmon Falls Wind Park, LLC, Thousand Springs Wind Park, LLC, Tuana Gulch Wind Park, LLC, and Yahoo Creek Wind Park, LLC.

Description: Quarterly Report of Acquisition of Sites of APDC, Inc., et al.

Filed Date: 4/30/12.

Accession Number: 20120430-5626.

Comments Due: 5 p.m. ET 5/21/12.

Docket Numbers: LA12-1-000.

Applicants: Florida Power & Light Company, NextEra Energy Resources, LLC, Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Crystal Lake Wind, LLC, Crystal Lake Wind II, LLC, Crystal Lake Wind III, LLC, Day County Wind, LLC, Diablo Winds, LLC, Elk City Wind, LLC, Elk City II Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL, Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, Garden Wind, LLC, Gray County Wind Energy, LLC, Hatch Solar Energy Center I, LLC, Hawkeye Power Partners, LLC, High Majestic Wind Energy Center, LLC, High Winds, LLC, High Majestic Wind II, LLC, Jamaica Bay Peaking Facility, LLC, Lake Benton Power Partners II, LLC, Langdon Wind, LLC, Logan Wind Energy LLC, Meyersdale Windpower LLC, Mill Run Windpower, LLC, Minco Wind, LLC, Minco Wind II, LLC, Minco Wind Interconnection Services, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, Northern Colorado Wind Energy, LLC, Osceola Windpower, LLC, Osceola Windpower II, LLC, Paradise Solar Urban Renewal, L.L.C., Peetz Table Wind Energy, LLC, Pennsylvania Windfarms, Inc., Perrin Ranch Wind, LLC, Red Mesa Wind, LLC, Sky River LLC, Somerset Windpower, LLC, Story Wind, LLC, Docket No. Vasco Winds, LLC, Victory Garden Phase IV, LLC, Waymart Wind Farm, L.P., Wessington Wind Energy Center, LLC, White Oak Energy LLC, Wilton Wind II, LLC, Windpower Partners 1993, L.P.

Description: First Quarter 2012 Site Control Quarterly Filing of the NextEra Energy Companies.

Filed Date: 4/30/12.

Accession Number: 20120430-5689.

Comments Due: 5 p.m. ET 5/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2012.
Nathaniel J. Davis, Sr.,
Deputy Secretary.

[FR Doc. 2012-11173 Filed 5-8-12; 8:45 am]

BILLING CODE 6717-01-P